DEPARTMENT OF THE INTERIOR

Fish and Wildlife Service

[FWS-R6-R-2009-N211; 60138-1265-6CCP-S3]

Cokeville Meadows National Wildlife Refuge, Lincoln County, WY

AGENCY: Fish and Wildlife Service, Interior.

ACTION: Notice of intent to prepare a comprehensive conservation plan, a hunt plan, and environmental assessment; announcement of open house public scoping meetings; and request for comments.

SUMMARY: We, the U.S. Fish and Wildlife Service (Service), intend to prepare a comprehensive conservation plan (CCP), a hunt plan, and environmental assessment (EA) for Cokeville Meadows National Wildlife Refuge. We provide this notice in compliance with our CCP policy to advise other Federal and State agencies, Tribes, and the public of our intentions and to obtain suggestions and information on the scope of issues to consider in the planning process. We are also announcing public meetings and requesting public comments.

DATES: To ensure consideration, please send your written comments by December 31, 2009. We will hold public meetings to begin the CCP and hunt plan planning process; see Public Meetings under SUPPLEMENTARY INFORMATION for dates, times, and locations.

ADDRESSES: Send your comments or requests for more information by any of the following methods.

E-mail: bernardo_garza@fws.gov. Include “Cokeville Meadows CCP/Hunt Plan” in the subject line of the message.

Fax: Bernardo Garza, (303) 236-4792.

U.S. Mail: P.O. Box 25486—DFC, Denver, CO 80225-0486.

In-Person Drop-off: You may drop off comments during regular business hours at 134 Union Boulevard, Suite 300, Lakewood, CO 80228.

FOR FURTHER INFORMATION CONTACT: Carl Millegan, Project Leader, Seedskadee NWR Complex, (307) 875-2187 x 19, carl_millegan@fws.gov.

SUPPLEMENTARY INFORMATION:

Introduction

With this notice, we initiate our process for developing a CCP and a Hunt Plan for the Cokeville Meadows NWR, in Lincoln County, WY. This notice complies with our CCP policy to (1) advise other Federal and State agencies, Tribes, and the public of our intention to conduct detailed planning on this refuge and (2) obtain suggestions and information on the scope of issues to consider in the environmental document and during development of the CCP and the Hunt Plan.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System was established for specific purposes. We use these purposes as the foundation for developing and prioritizing the management goals and objectives for each refuge within the National Wildlife Refuge System mission and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Cokeville Meadows NWR.

We will conduct the environmental review of this project and develop an Environmental Assessment in accordance with the requirements of the National Environmental Policy Act of 1969, as amended (NEPA) (42 U.S.C. 4321 et seq.); NEPA regulations (40 CFR parts 1500-1508); other appropriate Federal laws and regulations; and our policies and procedures for compliance with those laws and regulations.

Cokeville Meadows National Wildlife Refuge

Cokeville Meadows NWR was established for the conservation of the wetlands of the Nation in order to maintain the public benefits they provide and to help fulfill international obligations contained in various migratory bird treaties and conventions as well as for use as an inviolate sanctuary for migratory birds. This refuge contains a mosaic of wet meadows and cattail/bulrush sloughs. Many of these wetlands were originally created and maintained by agricultural practices. Cokeville Meadows NWR provides nesting habitat for 32 water bird species and, if developed, these habitats could provide suitable nesting habitat for the trumpeter swan, a species of management concern. Refuge habitats also provide important habitat for resident species. Greater sage grouse use upland sagebrush areas for nesting while riparian areas provide important feeding sites for their broods. Big game, including antelope, mule deer, and elk also utilize Refuge habitats.

Public Meetings

The public will have an opportunity to provide input at two public meetings.

Date | Time | Location
November 17, 2009 | 6-9 p.m | Cokeville High School, Auditorium, 435 Pine Street, Cokeville, WY 83114.
November 18, 2009 | 6-9 p.m | Best Western Fossil Country Inn & Suites, Conference Room, 760 Highway 189/30, Kemmerer, WY 83101.

You may also send comments anytime during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 7, 2009.
Richard A Coleman,
Acting Regional Director.

[FR Doc. E9-26670 Filed 11-4-09; 8:45 am]

BILLING CODE 4310-55-P